DEPARTMENT OF TRANSPORTATION

Federal Aviation Administration

14 CFR Part 39

[Docket No. FAA-2007-28068; Directorate Identifier 2007-CE-043-AD; Amendment 39-15217; AD 2007-20-07]

RIN 2120-AA64

Airworthiness Directives; Hawker Beechcraft Corporation (Type Certificate No. A00010WI Previously Held by Raytheon Aircraft Company) Model 390 Airplanes

AGENCY: Federal Aviation Administration (FAA), Department of Transportation (DOT).

ACTION: Final rule.

SUMMARY: We are adopting a new airworthiness directive (AD) for certain Hawker Beechcraft Corporation Model 390 airplanes. This AD requires you to inspect the starter-generator to determine the serial number (S/N) and suffix letter, which indicates if the part is improperly shimmed. This AD also requires you to replace any improperly shimmed starter-generator with a properly shimmed starter-generator. This AD results from reports of a manufacturing error where certain starter-generators may have been improperly shimmed. We are issuing this AD to detect and correct improperly shimmed starter-generators, which could result in premature starter-generator failure. This failure could lead to increased chances of dual starter-generator failure on the same flight.

DATES: This AD becomes effective on November 7, 2007.

On November 7, 2007, the Director of the Federal Register approved the incorporation by reference of certain publications listed in this AD.

ADDRESSES: For service information identified in this AD, contact Hawker Beechcraft Company, P.O. Box 85, Wichita, Kansas 67201-0085; telephone: (800) 429-5372 or (316) 676-3140.

To view the AD docket, go to U.S. Department of Transportation, Docket Operations, M-30, West Building Ground Floor, Room W12-140, 1200 New Jersey Avenue, SE., Washington, DC 20590, or on the Internet at http://dms.dot.gov. The docket number is FAA-2007-28068; Directorate Identifier 2007-CE-043-AD.

FOR FURTHER INFORMATION CONTACT: Philip Petty, Aerospace Engineer, FAA, Wichita Aircraft Certification Office, 1801 Airport Road, Room 100, Wichita, Kansas 67209; telephone: (316) 946-4139; fax: (316) 946-4107; email: philip.petty@faa.gov.

SUPPLEMENTARY INFORMATION:

Discussion

On June 5, 2007, we issued a proposal to amend part 39 of the Federal Aviation Regulations (14 CFR part 39) to include an AD that would apply to certain Hawker Beechcraft Corporation Model 390 airplanes. This proposal was published in the Federal Register as a notice of proposed rulemaking (NPRM) on June 12, 2007 (72 FR 32230). The NPRM proposed to require you to inspect the starter-generator to determine the S/N and suffix letter, which indicates if the part is improperly shimmed. The NPRM also proposed to require you to replace any improperly shimmed starter-generator with a properly shimmed starter-generator.

Comments

We provided the public the opportunity to participate in developing this AD. The following presents the comments received on the proposal and FAA's response to each comment:

Comment Issue No. 1: Change the Term “Defective” in the AD

A representative of Hawker Beechcraft states that the term “defective,” as used in the NPRM, is not technically correct. The starter-generators affected by the AD are not defective. The problem causing the starter-generators to fail is improper shimming due to poorly written or missing assembly instructions. Not all units in the suspect range may be over-shimmed.

Hawker Beechcraft requests the term “defective” be changed throughout the AD to describe the affected starter-generators more accurately.

We concur with the commenter. We will change the term “defective” to “improperly shimmed” throughout the final rule AD action based on this comment.

Comment Issue No. 2: Change the Term “New Design” in the AD

A representative of Hawker Beechcraft states that the term “new design,” as used in the NPRM, is not accurate. The basic design of the affected starter-generator did not change. The assembly instructions were changed to ensure that future starter-generators are properly shimmed.

Hawker Beechcraft requests the term “new design” be changed throughout the AD to describe the replacement part more accurately.

We concur with the commenter. We will change the term “new design” to “properly shimmed” throughout the final rule AD action based on this comment.

Conclusion

We have carefully reviewed the available data and determined that air safety and the public interest require adopting the AD as proposed except for the changes previously discussed and minor editorial corrections. We have determined that these minor corrections:

• Are consistent with the intent that was proposed in the NPRM for correcting the unsafe condition; and

• Do not add any additional burden upon the public than was already proposed in the NPRM.

Costs of Compliance

We estimate that this AD affects 105 airplanes in the U.S. registry.

We estimate the following costs to do the inspection:

Labor cost | Parts cost | Total cost per airplane | Total cost on U.S. operators
1 work-hour × $80 per hour = $80 | Not applicable | $80 | $8,400

We estimate the following costs to do any necessary replacements that will be required based on the results of the inspection. We have no way of determining the number of airplanes that may need this replacement:

Labor cost | Parts cost | Total cost per generator
5 work-hours × $80 per hour = $400 | $9,648 for new part; $6,593 for overhauled part | $10,048 for new part; $6,993 for overhauled part.

Authority for this Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2007-28068; Directorate Identifier 2007-CE-043-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2007-20-07 Hawker Beechcraft Corporation (Type Certificate No. A00010WI previously held by Raytheon Aircraft Company): Amendment 39-15217; Docket No. FAA-2007-28068; Directorate Identifier 2007-CE-043-AD.

Effective Date

(a) This AD becomes effective on November 7, 2007.

Affected ADs

(b) None.

Applicability

(c) This AD applies to Model 390 airplanes, serial numbers RB-1 and RB-4 through RB-149, that are certificated in any category.

Unsafe Condition

(d) This AD results from reports of a manufacturing error where certain starter-generators may have been improperly shimmed. We are issuing this AD to detect improperly shimmed starter-generators, which could result in premature starter-generator failure. This failure could lead to increased chances of dual starter-generator failure on the same flight.

Compliance

(e) To address this problem, you must do the following, unless already done:

Actions | Compliance | Procedures
(1) Inspect the left-hand and right-hand starter-generators, Raytheon Aircraft Company (RAC) part number (P/N) 390-389001-0001 or Advance Industries, Inc. (AI) P/N MG94A-1, to determine the serial number and suffix letter as specified in paragraph 3.A.(2) of RAC Mandatory Service Bulletin SB 24-3790, Issued: August, 2006 | Within the next 50 hours time-in-service (TIS) after November 7, 2007 (the effective date of this AD) or within the next 3 months after November 7, 2007 (the effective date of this AD), whichever occurs first | Follow RAC Mandatory Service Bulletin SB 24-3790, Issued: August, 2006.
(2) If any starter-generator(s) specified in paragraph 3.A.(2) of RAC Mandatory Service Bulletin SB 24-3790, Issued: August, 2006, is/are found during the inspection required in paragraph (e)(1) of this AD, replace that starter-generator with a properly shimmed starter-generator | As follows: (i) If both starter-generators are identified as being improperly shimmed, replace at least one within 10 hours TIS after the inspection required in paragraph (e)(1) of this AD. Replace the other within the next 200 hours TIS after November 7, 2007 (the effective date of this AD) or within the next 12 months after November 7, 2007 (the effective date of this AD), whichever occurs first (ii) If one starter-generator is identified as being improperly shimmed, replace it within the next 200 hours TIS after November 7, 2007 (the effective date of this AD) or within the next 12 months after November 7, 2007 (the effective date of this AD), whichever occurs first | Follow RAC Mandatory Service Bulletin SB 24-3790, Issued: August, 2006.
(3) If a starter-generator specified in paragraph 3.A.(2) of RAC Mandatory Service Bulletin SB 24-3790, Issued: August, 2006, is not found during the inspection required in paragraph (e)(1) of this AD, no further action is required | Not applicable | Follow RAC Mandatory Service Bulletin SB 24-3790, Issued: August, 2006.
(4) Do not install on any airplane any RAC P/N 390-389001-0001 or AI P/N MG94A-1 that is specified in paragraph 3.A.(2) of RAC Mandatory Service Bulletin SB 24-3790, Issued: August, 2006 | Before further flight after the inspection required in paragraph (e)(1) of this AD | Follow RAC Mandatory Service Bulletin SB 24-3790, Issued: August, 2006.

Alternative Methods of Compliance (AMOCs)

(f) The Manager, Wichita Aircraft Certification Office (ACO), FAA, has the authority to approve AMOCs for this AD, if requested using the procedures found in 14 CFR 39.19. Send information to ATTN: Philip Petty, Aerospace Engineer, Wichita ACO, FAA, 1801 Airport Road, Room 100, Wichita, Kansas 67209; telephone: (316) 946-4139; fax: (316) 946-4107; e-mail: philip.petty@faa.gov. Before using any approved AMOC on any airplane to which the AMOC applies, notify your appropriate principal inspector (PI) in the FAA Flight Standards District Office (FSDO), or lacking a PI, your local FSDO.

Material Incorporated by Reference

(g) You must use Raytheon Aircraft Company Mandatory Service Bulletin SB 24-3790, Issued: August, 2006, to do the actions required by this AD, unless the AD specifies otherwise.

(1) The Director of the Federal Register approved the incorporation by reference of this service information under 5 U.S.C. 552(a) and 1 CFR part 51.

(2) For service information identified in this AD, contact Hawker Beechcraft Company, P.O. Box 85, Wichita, Kansas 67201-0085; telephone: (800) 429-5372 or (316) 676-3140.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on September 24, 2007.
Kim Smith,
Manager, Small Airplane Directorate, Aircraft Certification Service.

[FR Doc. E7-19192 Filed 10-2-07; 8:45 am]

BILLING CODE 4910-13-P